DEPARTMENT OF THE INTERIOR

Geological Survey

Federal Geographic Data Committee (FGDC); Public Review of the Shoreline Metadata Profile

ACTION: Notice; request for comments.

SUMMARY: The FGDC is conducting a public review of the Shoreline Metadata Profile. The purpose of this public review is to provide software vendors and data users and producers an opportunity to comment on this standard in order to ensure that it meets their needs.

Participants in the public review are encouraged to provide comments that address specific issues/changes/additions that may result in revisions to the draft Shoreline Metadata Profile. All participants who submit comments during the review period will receive acknowledgement of the receipt of their comment. After comments have been evaluated, participants will receive notification of how their comments were addressed. After formal endorsement of the standard by the FGDC, the standard and a summary analysis of the changes will be made available to the public.

DATES: Comments must be received on or before May 31, 2000.

CONTACT AND ADDRESSES: The draft standard may be downloaded via Internet address http://www.fgdc.gov/standards/status/sub5_6.html.

Request for printed copies of the standard should be addressed to “Shoreline Metadata Standard,” FGDC Secretariat (attn: Jennifer Fox), U.S. Geological Survey, 590 National Center, 12201 Sunrise Valley Drive, Reston, Virginia 20192 or facsimile 703-648-5755 or Internet at gdc@usgs.gov.

Reviewer's comments may be sent to FGDC via Internet mail to gdc-shoreline@ www.fgde.gov. Reviewer's comments may also be sent to the FGDC Secretariat at the above address. Please send one hardcopy version of the comments and a softcopy version on 3.5-inch diskette in WordPerfect, Microsoft Word, or Rich Text Format. Reviewers are strongly urged to use the template for sending comments that may be downloaded from Internet address http://www.fgdc.gov/standards/directives/dir2d.html

SUPPLEMENTARY INFORMATION: Following is the Introduction to the Shoreline Metadata Standard, submitted by the FGDC Bathymetric Subcommittee:

Introduction

In recent times, accurate delineation of the shoreline and the development of a shoreline standard have become important due to international and legal issues. With emerging technologies such as digital cartography, geographic information systems (GIS), Computer Aided Design and Drafting (CADD), digital data products, electronic charts, and the World Wide Web, temporal and spatial accuracy is very important when producing maps. The purpose of the “Shoreline Metadata Profile” is to address the complexities of shoreline data while serving the community of users involved with geospatial data “activities” that intersect the U.S. Shoreline.

Objective

This Shoreline Metadata Profile is the first in a series of standards that will define a Shoreline Data Content Standard. The metadata profile is to be used as an extension or profile to the existing Content Standards for Digital Geospatial Metadata (CSDGM). The glossary and bibliography are informative annexes that will provide a basis for understanding the shoreline and related issues. Because the CSDGM only allows for the documentation of generic geospatial data, the Bathymetric Subcommittee felt it was necessary to develop a metadata profile that addressed shoreline data and data that intersects with the shoreline. The objective of the metadata profile is to capture the critical processes and conditions that revolve around creating and collecting shoreline data. The metadata produced using this standard will be important for clearinghouse activities to locate potential data sets and to indicate the fitness for use and accuracy of a given data set. This Standard is intended to serve the community of users who are involved with geospatial data “activities” that intersect the U.S. Shoreline. The purpose is to clarify (standardize) some of the complexities of shoreline data by developing a metadata profile, bibliography and glossary, which will be an extension or profile of the FGDC CSDGM.

Scope

The Shoreline Metadata Profile provides the format and content for describing data sets related to shoreline and other coastal data sets. The metadata complies with the FGDC Content Standards for Digital Geospatial Standard. It provides additional terms and data elements required to support metadata for shoreline and coastal data sets.

The profile is primarily oriented toward providing the elements necessary for documenting shoreline data and reaching a common understanding of the shoreline for national mapping purposes and other geospatial and Geographic Information Systems (GIS) applications. Shoreline data are important for coastal zone management, environmental monitoring, resource developments, legal land jurisdictional issues, ocean and meteorological modeling, engineering, construction, planning, and many other uses. A published standard by a responsible agency will provide the affected community with a basis from which to assess the quality and utility of their shoreline data. Shoreline is an integral component of the geospatial data framework.

The shoreline glossary provides the working vocabulary for shoreline topics and thesaurus for the metadata standard. Every reference in the glossary has at least one reference to the bibliography. Additional explanatory material about the use of the term, common or known misuses of the term, and confounding or clarifying descriptions are included in the glossary. The glossary is structured so that users understand relationships among terms.

Applicability

This standard is to be used for reporting the availability of shoreline and coastal data sets in the National Spatial Data Infrastructure (NSDI) clearinghouse. It is also directly applicable to all data sets that intersect with the shoreline. It will be used to support reporting the collection, transformation, accuracy, and fitness for use of various shoreline data sets.

Related Standards

A crosscutting standards review and data model developed by FGDC in 1995 indicated that most of the FGDC thematic subcommittees and working groups have an entity relationship to shoreline data. FGDC endorsed standards that include reference to the shoreline are the Cadastral Data Content Standard (FGDC-STD-003) and Classification of Wetlands and Deep Water Habitats (FGDC-STD-004). The Tri Service Spatial Data Standard and feature reference model contains a relationship to shoreline. The National Imagery and Mapping Agency has also recently published a geospatial systems data model for shoreline data.

Standard Development Procedures

The location and attributes of the shoreline are valuable to the diverse user community. Mapping of the shoreline has produced a high volume of important information.

The determination of the shoreline is the responsibility of the Federal Government. Agencies such as the National Oceanic and Atmospheric Administration (NOAA) survey internal U.S. shorelines, while the Department of Defense (DoD) and National Imagery and Mapping Agency (NIMA) address external Shoreline surveying.

The primary organizations involved in the development of this standard are members of the shoreline engineering, coastal zone management, flood insurance, and resource management community. Federal agencies involved include NOAA, U.S. Geological Survey, Minerals Management Service, U.S. Environmental Protection Agency, Department of State, Department of Justice, U.S. Bureau of the Census, U.S. Coast Guard, U.S. Army Corps of Engineers, and NIMA. There has also been participation from private surveying contractors, the real estate industry, the insurance industry, various state and local government agencies, and private landowners.

In summer 1997, a notice of a workshop on shoreline data and a standards proposal were published in the Federal Register. The notice was then posted on several GIS, mapping, and coastal zone management related list servers and web sites. Based on the comments received and the level of interest, the workshop was expanded to include more participants than originally expected. The participants came together for the workshop in Charleston, South Carolina on November 3-5, 1997. An Internet site was established, and action items were initiated. This standard is the result of the work of participants.

The metadata requirements were expanded at a Shoreline Bathymetric Subcommittee meeting in Silver Spring, Maryland on February 5-6, 1998. This meeting focused on: what metadata is, how shoreline managers and technical staff could use it, and how to identify the unique characteristics of shoreline data.

In the winter of 1998, the FGDC Standards Working Group approved the Shoreline Metadata Profile proposal. The draft was developed by the Bathymetric Subcommittee Metadata Working Group over the next year and presented to the SWG in June of 1999.

Maintenance of Standard

The U.S. Department of Commerce, National Oceanic and Atmospheric Administration (NOAA), National Ocean Service (NOS), NOAA Coastal Services Center will maintain the Shoreline Metadata Profile, Glossary and Bibliography for the Federal Geographic Data Committee. Address questions concerning the content of this standard to David Stein, Secretary, FGDC Bathymetric Subcommittee at NOAA Coastal Services Center; 2234 South Hobson Avenue, Charleston, SC 29405-2413 or by E-mail: dstein@csc.noaa.gov

Dated: February 17, 2000.
Donald T. Lauer,
Acting Associate Division Chief for Operations.

[FR Doc. 00-4503 Filed 2-24-00; 8:45 am]

BILLING CODE 4310-Y7-M